DEPARTMENT OF HEALTH AND HUMAN SERVICES

National Institutes of Health

National Institute of Mental Health; Notice of Meeting

Pursuant to section 10(a) of the Federal Advisory Committee Act, as amended (5 U.S.C. Appendix 2), notice is hereby given of a meeting of the Interagency Autism Coordinating Committee (IACC), part of which will be a joint meeting between the IACC and the National Vaccine Advisory Committee (NVAC).

The meeting will be open to the public, with attendance limited to space availability; interested individuals are encouraged to register early to secure a space. The meeting will be accessible by videocast and conference call. Individuals who plan to attend and need special assistance, such as sign language interpretation or other reasonable accommodations, should inform the Contact Person listed below at least 5 business days in advance of the meeting.

Name of Committee: Interagency Autism Coordinating Committee (IACC).

Date: July 15, 2009.

Time: 8:30 a.m. to 4 p.m.

Agenda: In the morning, the IACC will host a joint meeting with the NVAC Vaccine Safety Working Group to discuss vaccine safety and autism; the afternoon will include discussion of analysis of the autism research portfolio and services-related activities. Public comment periods will be allotted in both the morning and afternoon sessions.

Place:In Person: Ronald Reagan Building and International Trade Center, The Polaris Room (Overflow: The Horizon Room), 1300 Pennsylvania Ave., NW., Washington, DC 20004.

Videocast and conference call information, as well as Web pre-registration and the agenda will be available through the IACC Web site meetings and events page: http://iacc.hhs.gov/events/.

Contact Person: Ms. Lina Perez, Office of Autism Research Coordination, Office of the Director, National Institute of Mental Health, NIH, 6001 Executive Boulevard, Bethesda, MD 20892-9669, (301) 443-6040, IACCPublicInquiries@mail.nih.gov.

Any member of the public interested in presenting oral comments to the Committee(s) must notify the Contact Person listed on this notice at least 10 days in advance of the meeting. Interested individuals and representatives of organizations must submit a letter of intent, a brief description of the organization represented, and a written/electronic copy of the oral presentation/statement at least 24 hours in advance of the meeting. A printed/electronic copy of the comment/statement provided by the deadline is required prior to the oral presentation; the document will become a part of the public record. Only one representative of an organization will be allowed to present oral comments and presentations will be limited to three to five minutes per speaker, depending on the number of speakers to be accommodated within the allotted time. Speakers will be assigned a time to speak in order of the date and time when their request to speak is received, along with the required written statement submitted at least 24 hours in advance of the meeting.

In addition, any interested person may submit written comments to the IACC and/or the NVAC prior to the meeting by sending the statement to the Contact Person listed on this notice at least 24 hours in advance of the meeting. The statement should include the name, address, telephone number and when applicable, the business or professional affiliation of the interested person. All written statements received by the deadline for both oral and written public comment will be provided to the IACC (and the NVAC, if appropriate) for their consideration.

Information about the IACC and a registration link for this meeting are available on the IACC Web site: http://www.iacc.hhs.gov.

(Catalogue of Federal Domestic Assistance Program Nos. 93.242, Mental Health Research Grants; 93.281, Scientist Development Award, Scientist Development Award for Clinicians, and Research Scientist Award; 93.282, Mental Health National Research Service Awards for Research Training, National Institutes of Health, HHS)

Dated: June 18, 2009.
Jennifer Spaeth,
Director, Office of Federal Advisory Committee Policy.

[FR Doc. E9-15059 Filed 6-25-09; 8:45 am]

BILLING CODE 4140-01-P